NATIONAL AERONAUTICS AND SPACE ADMINISTRATION

[Notice: (22-061)]

Performance Review Board, Senior Executive Service (SES)

AGENCY: National Aeronautics and Space Administration (NASA).

ACTION: Notice of membership of SES Performance Review Board.

The Civil Service Reform Act of 1978, requires that appointments of individual members to the Performance Review Board (PRB) be published in the Federal Register.

The performance review function for the SES in NASA is being performed by the NASA PRB. The following individuals are serving on the Board:

Performance Review Board

Chairperson, Associate Administrator

Deputy Associate Administrator for Business Operations

Chief Human Capital Officer

Director for Executive Services

Associate Administrator for the Office of Diversity and Equal Opportunity

Associate Administrator for the Space Technology Mission Directorate

Chief Financial Officer

Center Director, Kennedy Space Center

Cheryl Parker,
Federal Register Liaison Officer.

[FR Doc. 2022-17940 Filed 8-19-22; 8:45 am]

BILLING CODE 7510-13-P